DEPARTMENT OF HEALTH AND HUMAN SERVICES

Food and Drug Administration

[Docket No. 02F-0220]

Nutrinova, Inc.; Filing of Food Additive Petition

AGENCY: Food and Drug Administration, HHS.

ACTION: Notice.

SUMMARY: The Food and Drug Administration (FDA) is announcing that Nutrinova, Inc., has filed a petition proposing that the food additive regulations be amended to provide for the safe use of acesulfame potassium as a general-purpose sweetener and flavor enhancer.

DATES: Submit written or electronic comments on the petitioner's environmental assessment by June 19, 2002.

ADDRESSES: Submit written comments to the Dockets Management Branch (HFA-305), Food and Drug Administration, 5630 Fishers Lane, rm. 1061, Rockville, MD 20852. Submit electronic comments to http://www.fda.gov/dockets/ecomments.

FOR FURTHER INFORMATION CONTACT: Blondell Anderson, Center for Food Safety and Applied Nutrition (HFS-265), Food and Drug Administration, 5100 Paint Branch Pkwy., College Park, MD 20740-3835, 202-418-3106.

SUPPLEMENTARY INFORMATION: Under the Federal Food, Drug, and Cosmetic Act (sec. 409(b)(5) (21 U.S.C. 348(b)(5))), notice is given that a food additive petition (FAP No. 2A4735) has been filed by Nutrinova, Inc., 285 Davidson Ave., suite 102, Somerset, NJ 08873. The petition proposes to amend the food additive regulations in § 172.800 Acesulfame potassium (21 CFR 172.800) to provide for the safe use of acesulfame potassium as a general-purpose sweetener and flavor enhancer.

The potential environmental impact of this action is being reviewed. To encourage public participation consistent with regulations promulgated under the National Environmental Policy Act (40 CFR 1501.4(b)), the agency is placing the environmental assessment submitted with the petition that is the subject of this notice on display at the Dockets Management Branch (see ADDRESSES) for public review and comment. Interested persons may submit to the Dockets Management Branch (see ADDRESSES) written or electronic comments, on or before June 19, 2002. Two copies of any comments are to be submitted, except that individuals may submit one copy. Comments are to be identified with the docket number found in brackets in the heading of this document. Received comments may be seen in the Dockets Management Branch between 9 a.m. and 4 p.m., Monday through Friday. FDA will also place on public display any amendments to, or comments on, the petitioner's environmental assessment without further announcement in the Federal Register. If, based on its review, the agency finds that an environmental impact statement is not required and this petition results in a regulation, the notice of availability of the agency's finding of no significant impact and the evidence supporting that finding will be published with the regulation in the Federal Register in accordance with 21 CFR 25.51(b).

Dated: May 6, 2002.
Alan M. Rulis,
Director, Office of Food Additive Safety, Center for Food Safety and Applied Nutrition.

[FR Doc. 02-12545 Filed 5-17-02; 8:45 am]

BILLING CODE 4160-01-S